DEPARTMENT OF HOMELAND SECURITY

[Docket No. CISA-2020-0005]

60-Day Notice and Request for Comments; New Information Collection Request, 1670-NEW: SAFECOM Nationwide Surveys Generic Clearance

AGENCY: Emergency Communications Division (ECD), Cybersecurity and Infrastructure Security Agency (CISA), Department of Homeland Security (DHS).

ACTION: Information collection, request for comments.

SUMMARY: DHS CISA ECD will submit the following information collection request (ICR) to the Office of Management and Budget (OMB) for review and clearance in accordance with the Paperwork Reduction Act of 1995.

DATES: Comments are due by April 19, 2021.

ADDRESSES: You may submit comments, identified by docket number CISA-2020-0005, by one of the following methods:

• Federal eRulemaking Portal: http://www.regulations.gov. Please follow the instructions for submitting comments.

• Email: necp@cisa.dhs.gov. Please include docket number CISA-2020-0005 in the subject line of the message.

• Mail: Written comments and questions about this Information Collection Request should be forwarded to DHS/CISA/ECD, ATTN: Eric Runnels 1670-NEW, 245 Murray Lane SW, Mail Stop 0613, Washington, DC 20598-0609.

Instructions: All submissions received must include the words “Department of Homeland Security” and the docket number for this action. Comments received will be posted without alteration at http://www.regulations.gov, including any personal information provided.

Docket: For access to the docket and comments received, please go to www.regulations.gov and enter docket number CISA-2020-0005.

Comments submitted in response to this notice may be made available to the public through relevant websites. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: Eric Runnels, 703-705-6279, necp@cisa.dhs.gov.

SUPPLEMENTARY INFORMATION: In 2006, Congress passed Public Law 109-295, which included SEC. 671. EMERGENCY COMMUNICATIONS also known as the “21st Century Emergency Communications Act of 2006”. The legislation established the Department of Homeland Security (DHS) Office of Emergency Communications, which was re-designated in 2018 as the Emergency Communications Division (ECD) within the Cybersecurity and Infrastructure Security Agency (CISA), to lead the development and implementation of a comprehensive approach to advancing national interoperable communications capabilities.

The following responsibilities were established:

6 U.S.C. 571(c) requires the DHS Secretary through the ECD Assistant Director to:

(4) Conduct extensive, nationwide outreach to support and promote the ability of emergency response providers and relevant government officials to continue to communicate in the event of natural disasters, acts of terrorism, and other man-made disasters;

(13) develop and update periodically, as appropriate, a National Emergency Communications Plan under section 572 of this title;

(14) perform such other duties of the Department necessary to support and promote the ability of emergency response providers and relevant government officials to continue to communicate in the event of natural disasters, acts of terrorism, and other man-made disasters; and

(15) perform other duties of the Department necessary to achieve the goal of and maintain and enhance interoperable emergency communications capabilities.

6 U.S.C. 572(a) requires the Secretary in cooperation with State, local, and tribal governments, Federal departments and agencies, emergency response providers, and the private sector, develop not later than 180 days after the completion of the baseline assessment under section 573 of this title, and periodically update, a National Emergency Communications Plan.

Lastly, 6 U.S.C. 573 requires the DHS Secretary to conduct an assessment of Federal, State, local, and tribal governments that defines the range of capabilities needed by emergency response providers and relevant government officials, assesses the current available capabilities to meet such communications needs; identify the gaps between such current capabilities and defined requirements; at least every five years.

These authorities in addition to DHS responsibilities through Executive Order 13618 in the area of national security/emergency providers' communications require a continuous examination of nationwide emergency communications capabilities.

The frequency and complexity of emergencies are on the rise during a time when technology is advancing at a faster pace than any other time in history. In order to perform these statutory regulations, it is important to understand the continuously changing requirements of emergency response providers and government officials at all levels of government, evolving risks, and the public safety community's ability to integrate new technologies while also preparing for emergent technologies. As a result, CISA is seeking a PRA Generic Clearance to allow for flexibility in implementing surveys that are relevant to the current security environment.

To meet the statutory requirements of 6 U.S.C. 573, ECD conducts the SAFECOM Nationwide Survey every 5 years to assess evolving capability needs and gaps and track progress against policy initiatives; status of strategic plans; and major industry or market shifts affecting the emergency communications capability.

CISA ECD conducts a web-based survey entitled the SAFECOM Nationwide Survey, hereinafter referred to as the SNS. The purpose of the survey is to gather information to assess available emergency communications capabilities and identify gaps and needs for emergency response providers to effectively communicate during all types of natural or man-made hazards. CISA ECD uses the information collected to complete a statutorily mandated assessment and shares the data with all stakeholders that have a role in emergency communications. In order to ascertain this information, the SNS deploys four similar surveys across the nation to various emergency response disciplines at each level of government—federal, state, territorial, tribal, and local. The survey solicits responses regarding issues affecting the public safety community to determine a jurisdiction's level of operability, interoperability and continuity and thus their overall emergency communications capability level. CISA ECD analyzes the data collected from this general survey to identify major gaps and themes affecting emergency communications across levels of government. Additionally, this analysis informs the development of supplemental surveys tailored to specific needs across the public safety community, as well as future iterations of the Nationwide Baseline Communications Assessment (NCBA) and National Emergency Communications Plan (NECP).

The results from the most recent surveys led to major updates to the update of the NECP released in September 2019. The NECP sets strategic priorities for the entire Nation. Additionally, the current collection allowed CISA ECD to share reliable data with emergency communications partners at all levels of government which assists them with: (1) Statewide Communications Interoperability Plan (SCIP) development, (2) Threat and Hazard Identification Risk Analysis (THIRA) development, (3) state-level grant programs and guidance, (4) federal grant applications assistance, and (5) funding and resource sharing strategy development.

CISA ECD conducts SAFECOM supplemental surveys. The surveys can be conducted as focus groups, in-person interviews, web- and paper-based. CISA ECD uses the information collected to complete statutorily mandated requirements (6 U.S.C. 571(c), 572(a), and 573) and shares the data with all stakeholders with a role in emergency communications. In order to ascertain this information, the SAFECOM supplemental surveys deploy topic-specific or targeted surveys across the nation to various emergency response disciplines at each level of government: Federal, state, territorial, tribal, and local. The surveys solicit responses regarding targeted issues affecting all public safety, emergency response communities and/or specific subsets of the SNS population. CISA ECD analyzes the data collected from these supplemental surveys to identify changing requirements, mitigate risks, and inform the data collected from the 5-year Nationwide Survey.

ECD uses electronic submission to reduce the burden on respondents including web-based surveys and assessment tools, such as Survey Monkey. Its target audience—mainly first responders—is frequently interrupted, have variable schedules, and frequently work long hours. Electronic submission provides a more user-friendly interface, provides anonymity to the users, ensures the maximum response rate, eliminates paper, printing, and postage costs along with the need for data entry.

We will also utilize alternative submission methods for both the SNS and the supplemental surveys. An Adobe PDF-fillable form which can be returned via email to sns@cisa.dhs.gov, direct emails with questionnaires attached, an in-person surveys, focus-groups, and a paper copy that will be mailed directly to the respondent(s) requesting a hard copy. The paper copy can be returned either via a prepaid envelope, scanned and emailed to sns@cisa.dhs.gov, and/or faxed to CISA ECD. We anticipate that .5% of respondents will utilize these alternative submission methods.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Title of Collection: SAFECOM Nationwide Surveys Generic Clearance.

OMB Control Number: 1670-NEW.

Frequency: Annually.

Affected Public: State, Local, Tribal, and Territorial Governments.

Number of Annualized Respondents: 8,398.

Estimated Time per Respondent: 0.5 hours.

Total Annualized Burden Hours: 4,199 hours.

Total Annualized Respondent Opportunity Cost: $168,298.74.

Total Annualized Respondent Out-of-Pocket Cost: $0.

Total Annualized Government Cost: $235,863.

Samuel Vazquez,
Acting Chief Information Officer, Department of Homeland Security, Cybersecurity and Infrastructure Security Agency.

[FR Doc. 2021-03105 Filed 2-16-21; 8:45 am]

BILLING CODE 9110-9P-P